DEPARTMENT OF THE INTERIOR

National Park Service

Notice of Intent to Repatriate Cultural Items: Denver Museum of Nature & Science, Denver, CO

AGENCY: National Park Service, Interior.

ACTION: Notice.

Notice is here given in accordance with the Native American Graves Protection and Repatriation Act (NAGPRA), 25 U.S.C. 3005, of the intent to repatriate cultural items in the possession of the Denver Museum of Nature & Science, Denver, CO, that meet the definition of “sacred objects” under 25 U.S.C. 3001.

This notice is published as part of the National Park Service's administrative responsibilities under NAGPRA, 25 U.S.C. 3003 (d)(3). The determinations in this notice are the sole responsibility of the museum, institution, or Federal agency that has control of the cultural items. The National Park Service in not responsible for the determinations in this notice.

Museum accession, catalogue, and computer records, as well as consultation with representatives of the Bois Forte Band (Nett Lake) of the Minnesota Chippewa Tribe, Minnesota, indicate that the nine cultural objects are Chippewa and are from the Nett Lake Reservation, MN.

In 1961, Mrs. Sidney A. Petersen purchased eight cultural items from the estate of Jack Chicag of Nett Lake Reservation, MN. The cultural items are sacred objects derived from the Midewiwin Society, also known as the Medicine Lodge Society. The eight cultural items are 1 Midewiwin initiation set consisting of 16 items, including cedar wood pieces and a medicine packet, all placed in a cloth tobacco sack; 6 medicine bags consisting of various animal skins with added cloth, ribbon, or beadwork; and 1 incomplete Midewiwin scroll. In 1961, Mrs. Petersen also purchased from Mrs. Ray Drift of Nett Lake Reservation, MN, one wooden crook handle Midewiwin staff with clusters of ribbons, feathers, metal jingles, brass thimbles, and carved deer claws. On February 5, 1976, Mrs. Petersen sold the nine cultural items to the Crane Foundation. On February 19, 1976, the Crane Foundation, through Dr. and Mrs. Frances Crane, gifted the nine cultural items to the Denver Museum of Natural History (now Denver Museum of Nature & Science).

The nine cultural items are needed by Midewiwin Society priests to conduct ceremonials and are needed by Bois Forte Band (Nett Lake) of the Minnesota Chippewa, Minnesota religious leaders for the practice of traditional Native American religious ceremonies.

Officials of the Denver Museum of Nature & Science have determined that, pursuant to 25 U.S.C. 3001 (3)(C), the nine Midewiwin cultural items described above are specific ceremonial objects needed by traditional Native American religious leaders for the practice of traditional Native American religions by their present-day adherents. Officials of the Denver Museum of Nature & Science also have determined that, pursuant to 25 U.S.C. 3001 (2), there is a relationship of shared group identity that can be reasonably traced between the nine cultural items and the Bois Fort Band (Nett Lake) of the Minnesota Chippewa, Minnesota.

Representatives of any other Indian tribe that believes itself to be culturally affiliated with the nine cultural items should contact Dr. Steven Holen, Head of the Anthropology Department, Denver Museum of Nature & Science, 2001 Colorado Blvd., Denver, CO 80205, telephone (303) 370-8261, before March 6, 2006. Repatriation of the cultural items to the Bois Fort Band (Nett Lake) of the Minnesota Chippewa, Minnesota may proceed after that date if no additional claimants come forward.

The Denver Museum of Nature & Science is responsible for notifying the Bois Fort Band (Nett Lake) of the Minnesota Chippewa, Minnesota that this notice has been published.

Dated: January 25, 2006.
C. Timothy McKeown,
Acting Manager, National NAGPRA Program.

[FR Doc. E6-1381 Filed 2-1-06; 8:45 am]

BILLING CODE 4312-50-S